NATIONAL AERONAUTICS AND SPACE ADMINISTRATION

[Notice 08-005]

Notice of Intent To Grant an Exclusive License

AGENCY: National Aeronautics and Space Administration.

ACTION: Notice of Intent to Grant an Exclusive License.

SUMMARY: This notice is issued in accordance with 35 U.S.C. 209(e) and 37 CFR 404.7(a)(1)(i). NASA hereby gives notice of its intent to grant an exclusive license in the United States to promote the utilization by the public of the inventions described and claimed in the following U.S. Patent Applications by, inter alia, engaging in marketing activities:

“System And Method For Deriving A Process-Based Specification” Application Serial No. 10/789,028 NASA Case No. GSC 14,389-1; “Systems, Methods & Apparatus For Implementation Of Formal Specifications Derived From Informal Requirements” Application Serial No. 11/203,590 NASA Case No. GSC 14,941-1; “Systems, Methods And Apparatus For Verification Of Knowledge-Based Systems” Application Serial No. 11/203,586 NASA Case No. GSC 14,942-1; “System And Method For Managing Autonomous Entities Through Apoptosis” Application Serial No. 11/251,538 NASA Case No. GSC 14,968-1; “System And Method Of Self-Properties For An Autonomous And Autonomic Computer Environment” Application Serial No. 11/426,853 NASA Case No. GSC 15,038-1; “Systems, Methods And Apparatus For Procedure Development And Verification” Application Serial No. 11/461,669 NASA Case No. GSC 15,043-1; “Systems, Methods, and Apparatus for Generation and Verification of Policies in Autonomic Computing Systems” Application Serial No. 11/532,800 NASA Case No. GSC 15,079-1; “Systems, Methods, and Apparatus for Pattern Matching in Procedure Development and Verification” Application Serial No. 11/533,837 NASA Case No. GSC 15,080-1; “Systems, Methods, and Apparatus for Automat Learning in Generation of Scenario-Based Requirements in System Development” Application Serial No. 11/536,132 NASA Case No. GSC 15, 148-1; “Systems, Methods, and Apparatus for Quiesence of Autonomic System” Application Serial No. 11/533,855 NASA Case No. GSC-15176-1; “Systems, Methods, and Apparatus for Developing and Maintaining Evolving Systems With Software Product Lines” Application Serial No. 11/536,378 NASA Case No. GSC 15,177-1; “Systems, Methods, and Apparatus For Modeling, Specifying and Deploying Policies In Autonomous and Autonomic Systems Using Agent-Oriented Software Engineering” Application Serial No. 11/536,969 NASA Case No. GSC-15178-1;“Systems, Methods And Apparatus For Autonomic Safety Devices” Application Serial No. 11/533,895 NASA Case No. GSC-15179-1;“Systems, Methods, and Apparatus For Flash Drive” Application Serial No. 11/536,895 NASA Case No. GSC-15186-1; “Otoacoustic Protection In Biologically-Inspired Systems” Application Serial No. 11/836,352 NASA Case No. GSC-15206-1; “Flash Drive Memory Apparatus And Method” Application Serial No. 11/935,572 NASA Case No. GSC-15301-1; “A Double-Heated USB Drive” Application Serial No. 11/935,572 NASA Case No. GSC 15,302-1; “Information Capturing Method” Application Serial No. 11/937,777 NASA Case No. GSC-15303-1; “Digital Memory Storage Hub” Application Serial No. 11/935,821 NASA Case No. GSC-15304-1; “Driven Shielding Capacitive Proximity Sensor” Application Serial No. 07/710,845 NASA Case No. GSC 13,377-1; “Driven Shielding Capacitive Proximity Sensor” Application Serial No. 08/999,976 NASA Case No. GSC 13,377-2; “Phase Discriminating Capacitive Array Sensor System” Application Serial No. 07/889,577 NASA Case No. GSC 13,460-1; “Double-Driven Shield Capacitive Type Proximity Sensor” Application Serial No. 08/008,426 NASA Case No. GSC 13,541-1; “Capaciflector Camera” Application Serial No. 08/090,230 NASA Case No. GSC 13,564-1; “Capaciflector-Guided Mechanisms” Application Serial No. 08/346,593 GSC-13614-1; “3-D Capaciflector” Application Serial No. 08/613,802 GSC-13701-1; “3-D Interactive Display” Application Serial No. 09/804,645 GSC-14339-1; “Virtual Feel Capaciflectors” Application Serial No. 11/250,701 GSC-14955-1; “Systems And Method For Delivery Of Information” Application Serial No. 11/561,337 GSC 14,927-1; “Empirical Mode Decomposition Method And Hilbert Spectral Analysis Algorithms” Application Serial No. 08/872,586 GSC 13,817-1; “Computer Implemented Empirical Mode Decomposition Method Apparatus and Article of Manufacture Utilizing Curvature Extrema” Application Serial No. 09/082,523 GSC 13,817-2; “Empirical Mode Decomposition Apparatus, Method, And Article Of Manufacture For Analyzing Biological Signals And Performing Curve Fitting” Application Serial No. 09/282,424 GSC 13,817-3; “ Empirical Mode Decomposition For Analyzing Acoustical Signals” Application Serial No. 10/073,957 GSC 13,817-4; “Empirical Mode Decomposition Apparatus, Method And Article Of Manufacture For Analyzing Biological Signals And Performing Curve Fitting” Application Serial No. 10/011,206 GSC 13,817-5; “Computer Implemented Empirical Mode Decomposition Method, Apparatus, And Article Of Manufacture For Two-Dimensional Signals” Application Serial No. 09/150,671 GSC 13,909-1; “Three Dimensional Empirical Mode Decomposition Analysis Apparatus And Method” Application Serial No. 09/729,138 GSC 14,302-1; “Computing Frequency By Using Generalized Zero-Crossing Applied To Intrinsic Mode Functions” Application Serial No. 10/729,579 GSC 14,608-1; “Computing Instantaneous Frequency By Normalizing Hilbert Transform” Application Serial No. 10/615,365 GSC 14,673-1; “Analyzing Nonstationary Financial Time Series Via Hilbert-Huang Transform (HHT)” Application Serial No. 10/963,470 GSC 14,807-1; “Systems And Method Of Analyzing Vibrations And Identifying Failure Signatures In The Vibrations” Application Serial No. 11/251,004 GSC 14,833-1; “GPS Compound Eye Attitude And Navigation Sensor And Method” Application Serial No. 09/574,986 GSC 13,966-1; “Spaceborne Global Positioning System For Spacecraft” Application Serial No. 09/348,876 GSC 13,991-1; Global Positioning System Satellite Selection Method” Application Serial No. 09/348,875 GSC 13,991-2; “Using The Global Positioning Satellite System To Determine Attitude Rates Using Doppler Effects” Application Serial No. 09/928,700 GSC 14,087-1; “Minimum Cycle Slip Airborne Differential Carrier Phase GPS Antenna” Application Serial No. 10/615,364 GSC 14,436-1; “Autonomous Navigation System Based On GPS And Magnetometer Data” Application Serial No. 10/178,546 GSC 14,463-1; “Radiation Hardened Fast Acquisition/Weak Signal Tracking System And Method” Application Serial No. 11/239,458 GSC 14,793-1 To Ocean Tomo Federal Services having its principal place of business in Bethesda, MD.

The patent rights in this invention have been assigned to the United States of America as represented by the Administrator of the National Aeronautics and Space Administration. The exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Mr. Bryan A. Geurts, Chief Patent Counsel/140.1, Goddard Space Flight Center, Greenbelt, MD 20771, (301) 286-7351.

FOR FURTHER INFORMATION CONTACT: Darryl Mitchell, Technology Transfer Program Office/504, Goddard Space Flight Center, Greenbelt, MD 20771 (301) 286-5810. Information about other NASA inventions available for licensing can be found online at http://techtracs.nasa.gov/.

Dated: January 11, 2008.
Keith T. Sefton,
Deputy General Counsel, Administration and Management.

[FR Doc. E8-1064 Filed 1-22-08; 8:45 am]

BILLING CODE 7510-13-P